DEPARTMENT OF COMMERCE

International Trade Administration

[A-570-848]

Freshwater Crawfish Tail Meat From the People's Republic of China: Rescission of Antidumping Duty New Shipper Reviews

AGENCY: Import Administration, International Trade Administration, Department of Commerce.

SUMMARY: On November 7, 2002 the Department published the initiation of new shipper reviews of the antidumping duty order on freshwater crawfish tail meat from the People's Republic of China covering the period September 1, 2001, through August 31, 2002. See Freshwater Crawfish Tail Meat From the People's Republic of China: Initiation of Antidumping New Shipper Reviews (67 FR 67822) (“New Shipper Initiation”). These new shipper reviews covered four exporters: Zhoushan Huading Seafood Co., Ltd. (Zhoushan Huading); Hubei Qianjiang Houhu Frozen & Processing Factory (Hubei Houhu); Qingdao Jin Yong Xiang Aquatic Foods Co., Ltd. (Qingdao JYX); and Siyang Foreign Trading Corporation (Siyang). For the reasons discussed below, we are rescinding the new shipper reviews of Hubei Houhu and Qingdao JYX.

EFFECTIVE DATE: September 5, 2003.

FOR FURTHER INFORMATION CONTACT: Scott Lindsay or Thomas Gilgunn at (202) 482-0780 and (202) 482-4236, respectively; AD/CVD Enforcement, Office 7, Group III, Import Administration, International Trade Administration, U.S. Department of Commerce, 14th Street and Constitution Avenue, NW., Washington, DC 20230.

SUPPLEMENTARY INFORMATION:

Background

On November 7, 2002, the Department published the initiation of antidumping new shipper reviews of Qingdao JYX, Hubei Houhu, Zhoushan Huading, and Siyang, covering the period September 1, 2001, through August 31, 2002. See New Shipper Initiation. On April 14, 2003, the Department extended the time limit for the preliminary results of these new shipper reviews. See Notice of Extension of Time Limit of Preliminary Results of New Shipper Reviews: Freshwater Crawfish Tail Meat From the People's Republic of China, 68 FR 18946 (April 14, 2003).

On January 6, 2003, the Department received Hubei Houhu's questionnaire responses regarding its corporate structure, sales information, and factors of production. A supplemental questionnaire was issued by the Department requesting additional sales information; Hubei Houhu responded on March 31, 2003. The Department also issued a questionnaire to Hubei Houhu's importer. Hubei Houhu's importer submitted their response on March 14, 2003.

On January 7, 2003, the Department received Qingdao JYX's questionnaire responses regarding its corporate structure, sales information, and factors of production. Three supplemental questionnaires and one importer questionnaire were issued by the Department requesting additional sales information; Qingdao JYX responded to these on March 31, 2003, June 12, 2003, July 2, 2003, and July 28, 2003.

On June 23, 2003 the Department rescinded the review on Siyang. See Freshwater Crawfish Tail Meat From the People's Republic of China: Rescission of Antidumping Duty New Shipper Review, 68 FR 37115 (June 28, 2003). With respect to Zhoushan Huading, a preliminary notice of intent to rescind is being issued concurrently with this final rescission notice on Qingdao JYX and Hubei Houhu. See Freshwater Crawfish Tail Meat From the People's Republic of China: Preliminary Notice of Intent to Rescind New Shipper Administrative Review, signed August 28, 2003.

Analysis of New Shipper Reviews

On August 15, 2003, the Department issued a memorandum detailing our analysis of the bona fides of Hubei Houhu's U.S. sale and our intent to rescind because we preliminarily determined that Hubei Houhu's U.S. sales were not bona fide based on the totality of the circumstances of the sale. See Memorandum from Scott Lindsay through Barbara E. Tillman to Joseph A. Spetrini; Freshwater Crawfish Tail Meat from The People's Republic of China: Whether the Sale in the New Shipper Review of Hubei Houhu is Bona Fide, dated August 15, 2003 (“Hubei Houhu Rescission Memo”). In the memorandum, the Department preliminarily determined that the new shipper sale made by Hubei Houhu was not bona fide because (1) the pricing of Hubei Houhu's single sale is artificially high, and otherwise not commercially reasonable; (2) the extremely small quantity of the sale is atypical of normal business practices, and otherwise commercially unreasonable; and (3) the importer cannot resell the subject merchandise for a profit, and has otherwise not acted in a commercially reasonable manner. Id. at 3.

On August 15, 2003, the Department issued a memorandum detailing our analysis of the bona fides of Qingdao JYX's U.S. sale and our intent to rescind because we concluded that Qingdao JYX's U.S. sale was not bona fide based on the totality of the circumstances of the sale. See Memorandum from Barbara E. Tillman to Joseph A. Spetrini; Freshwater Crawfish Tail Meat from The People's Republic of China: Intent to Rescind the New Shipper Review of Qingdao Jin Yong Xiang, dated August 15, 2003 (“Qingdao JYX Rescission Memo”). In the memorandum, the Department preliminarily determined that the new shipper sale made by Qingdao JYX was not bona fide because (1) the price and quantity of Qingdao JYX's sale is atypical of normal business practices, and otherwise commercially unreasonable; (2) an unusual sales process governed this sale, specifically the importer's intent to give this tail meat away as samples rather than resell it for profit; and (3) the shipment was found by the Food and Drug Administration (FDA) to be poisonous, and was destroyed under instructions from the FDA. Id. at 3.

Our analysis of the sales under review, and our full reasoning for determining the sales are not bona fide, are presented in the Hubei Houhu Rescission Memo, the Qingdao JYX Rescission Memo, and the Memorandum to Barbara E. Tillman: Freshwater Crawfish Tail Meat from The People's Republic of China: the Bona Fide Issue in the New Shipper Review of Qingdao Jin Yong Xiang Aquatic Foods Co., Ltd. (“Rescission Comments Memo”).

Comments

We gave the parties an opportunity to comment on both memoranda. No comments were submitted regarding our intent to rescind the new shipper review of Hubei Houhu. Qingdao JYX submitted comments on August 20, 2003. Petitioners submitted rebuttal comments on August 22, 2003. We have fully addressed the parties' comments in the Rescission Comments Memo.

Rescission of New Shipper Reviews

We received no comments on our intent to rescind the new shipper review of Hubei Houhu, therefore we are rescinding this new shipper review. We received comments on our intent to rescind the new shipper review of Qingdao JYX. However, our analysis of the comments has not led us to change our decision to rescind the review. See Rescission Comments Memo. Therefore, we are also rescinding the new shipper review with respect to Qingdao JYX.

Notification

The Department will notify the U.S. Bureau of Customs and Border Protection (Customs) that bonding is no longer permitted to fulfill security requirements for shipments for Hubei Houhu's or Qingdao JYX's freshwater crawfish tail meat from the PRC entered, or withdrawn from warehouse, for consumption in the United States on or after the publication of this rescission notice in the Federal Register, and that a cash deposit of 223.01 percent ad valorem should be collected for any entries exported by Hubei Houhu or Qingdao JYX. The Department will also instruct Customs to assess antidumping duties on the entries subject to this new shipper review at the antidumping duty rate in effect on the date of entry.

We are issuing and publishing this determination and notice in accordance with sections 751(a)(2)(B) and 777(i) of the Act.

Dated: August 28, 2003.
James J. Jochum,
Assistant Secretary for Import Administration.

[FR Doc. 03-22664 Filed 9-4-03; 8:45 am]

BILLING CODE 3510-05-P